DEPARTMENT OF HEALTH AND HUMAN SERVICES

Administration for Children and Families

Agency Recordkeeping/Reporting Requirements Under Emergency Review by the Office of Management and Budget

Title: State Personal Responsibility Education Program.

OMB No.: New Collection.

Description: An emergency request is being made to solicit comments from the public on paperwork reduction as it relates to ACYF's receipt of the following documents from applicants and awardees:

• Application for Formula Grant

• Performance Progress Reports

• Year 1 Implementation Plan

• Performance Measure Reporting

Respondents: 50 States and 9 Territories, to include, District of Columbia, Puerto Rico, Virgin Islands, Guam, American Samoa, Northern Mariana Islands, the Federated States of Micronesia, the Marshall Islands and Palau

Annual Burden Estimates
Instrument | Number of respondents | Number of responses per respondent | Average burden hours per response | Total burden hours
Application to include program narrative | 59 | 1 | 40 | 2360
Performance Progress Reports | 59 | 2 | 10 | 1180
Year 1 Implementation Plan | 59 | 1 | 30 | 1770
Performance Measure Reporting | 59 | 1 | 10 | 590

Estimated Total Annual Burden Hours: 5900.

Additional Information:

The Year 1 Implementation Plan is only required to be completed and submitted in the first year of the project period. This is a one time submission and will not occur annually.

The potential awardees could include organizations and other entities awarded in year 3 of the project period in States that did not apply for funding in the first 2 years of the project period.

A copy of this information collection, with applicable supporting documentation, may be obtained by calling the Administration for Children and Families, Reports Clearance Officer, Robert Sargis at (202) 690-7275. Interested persons are invited to submit comments regarding this request. Comments must be received within thirty days from the publication date of this Notice.

Comments about the information collection described above should be directed to the Office of Information and Regulatory Affairs, Attn: OMB Desk Officer for ACF, Office of Management and Budget, Paperwork Reduction Project, 725 17th Street NW., Washington, DC 20503; FAX: (202) 395-7285; e-mail: oira_submission@omb.eop.gov.

Dated: May 25, 2010.
Robert Sargis,
Reports Clearance Officer.

[FR Doc. 2010-13106 Filed 6-2-10; 8:45 am]

BILLING CODE 4184-01-M